FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than May 28, 2020.

A. Federal Reserve Bank of Minneapolis (Chris P. Wangen, Assistant Vice President), 90 Hennepin Avenue, Minneapolis, Minnesota 55480-0291:

1. John Hoeven, IV, Bismarck, North Dakota; Marcela Samson, Minot, North Dakota; Marcela Samson and Jack Hoeven Irrevocable Trust, Bismarck, North Dakota, First Western Bank & Trust, Minot, North Dakota, trustee; Matthew John Elder, Minot, North Dakota; Alesha M. Bailey, Lakeland, Georgia; Adam Duffis, Long Beach, California; and Austin James Duffis, Huntington Beach, California; as members of the Hoeven Family Shareholder Group acting in concert to retain voting shares of Westbrand, Inc., and thereby indirectly retain voting shares of First Western Bank & Trust, both of Minot, North Dakota and BlackRidgeBANK, Fargo, North Dakota.

2. Susan Sayer, Grand Forks, North Dakota; to retain voting shares of Citizens Bank Holding Company and thereby indirectly retain voting shares of Citizens State Bank of Finley, both of Finley, North Dakota.

B. Federal Reserve Bank of Kansas City (Dennis Denney, Assistant Vice President) 1 Memorial Drive, Kansas City, Missouri 64198-0001:

1. Henry Southway S Corporation Family Trust, Izora L. Southway and Rock I. Southway, as co-trustees, all of Alamosa, Colorado; as members of the Southway Family Group acting in concert to acquire voting shares of Alamosa Bancorporation, Ltd. and thereby indirectly acquire voting shares of Alamosa State Bank, both of Alamosa, Colorado. In addition, Rock I. Southway as a member of the Southway Family Group acting in concert to retain voting shares of Alamosa Bancorporation, Ltd. and thereby indirectly retain voting shares of Alamosa State Bank.

Board of Governors of the Federal Reserve System, May 8, 2020.
Yao-Chin Chao,
Assistant Secretary of the Board.

[FR Doc. 2020-10267 Filed 5-12-20; 8:45 am]

BILLING CODE P